DEPARTMENT OF THE INTERIOR

Bureau of Reclamation

Proposed Lower Yuba River Accord, Yuba County, CA

AGENCY: Bureau of Reclamation, Interior.

ACTION: Notice of Availability and Notice of Public Hearing for the Draft Environmental Impact Report/Environmental Impact Statement/(EIR/EIS).

SUMMARY: Pursuant to the National Environmental Policy Act and the California Environmental Quality Act (CEQA), the Bureau of Reclamation (Reclamation) and the Yuba County Water Agency (YCWA) have made available for public review and comment the Draft EIR/EIS for the Proposed Lower Yuba River Accord (Yuba Accord).

Two public hearings will be held to provide interested individuals and organizations with an opportunity to comment verbally and in writing on the Draft EIR/EIS.

The purpose of the Yuba Accord is to resolve instream flow issues associated with operation of the Yuba River Development Project (Yuba Project) in a way that protects and enhances lower Yuba River fisheries and local water-supply reliability. At the same time, it would provide revenues for local flood control and water supply projects, water for the CALFED Program to use for protection and restoration of Sacramento-San Joaquin Delta (Delta) fisheries, and improvements in statewide water supply management, including supplemental water for the Central Valley Project (CVP) and the State Water Project (SWP).

DATES: Two public hearings will be held on August 1, 2007 from 2 to 3 p.m. and from 6 to 7 p.m. in Marysville, California.

Submit written comments on the Draft EIR/EIS on or before August 24, 2007 at the address provided below.

ADDRESSES: The hearings will be at the Yuba County Water Agency, 1220 F Street, Marysville, CA 95901.

Send written comments to Ms. Dianne Simodynes, HDR|Surface Water Resources, Inc., 1610 Arden Way, Suite 175, Sacramento, CA 95815-4041. Send requests for a compact disk or a bound copy of the Draft EIR/EIS to Dianne Simodynes, telephone: (916) 569-1096. The Yuba Accord Draft EIR/EIS will also be available on the web at: http://www.usbr.gov/mp/nepa/nepa_projdetails.cfm?Project_ID=2549.

FOR FURTHER INFORMATION CONTACT: Mr. Tim Rust, Reclamation, Bureau of Reclamation, Division of Resources Management, 2800 Cottage Way, Sacramento, CA 95825, at (916) 978-5516, or by e-mail at trust@mp.usbr.gov; or Mr. Curt Aikens, YCWA, at 1220 F Street, Marysville, CA 95901, at (530) 741-6278, or by e-mail at caikens@ycwa.com.

SUPPLEMENTARY INFORMATION: The Yuba Accord represents an effort on the part of the Yuba River stakeholders to find a solution to the challenges of competing interests by providing water for fisheries, developing new tools to ensure local reliable water supply, crafting a revenue stream to pay for the Yuba Accord, and providing additional water for out-of-county environmental and consumptive uses. These various objectives would be met through implementation of the Yuba Accord, which includes the “Principles of Agreement for Proposed Lower Yuba River Fisheries Agreement” (Fisheries Agreement), the “Principles of Agreement for Proposed Conjunctive Use Agreements” (Conjunctive Use Agreements), and the “Principles of Agreement for Proposed Long-term Transfer Agreement” (Water Purchase Agreement).

The Yuba Accord agreements are:

• A Fisheries Agreement among YCWA, California Department of Fish and Game, and the collective non-governmental organizations, with the U.S. Fish and Wildlife Service and the National Oceanic and Atmospheric Administration, National Marine Fisheries Service supporting the agreement. Under the Yuba Accord Fisheries Agreement, YCWA would revise the operation of the Yuba Project to provide higher flows in the lower Yuba River to protect and enhance fisheries and to increase downstream water supplies.

• Conjunctive Use Agreements between YCWA and water districts within Yuba County for the implementation of a comprehensive program of conjunctive use of surface water and groundwater supplies and actions to improve water use efficiencies.

• A Water Purchase Agreement among YCWA, the California Department of Water Resources (DWR), and Reclamation. Under this agreement, Reclamation and DWR would purchase water for the CALFED Environmental Water Account and for the CVP and SWP project uses.

All three of these agreements need to be in place for the Yuba Accord to be implemented.

The Draft EIR/EIS analyzes the impacts of implementing the Yuba Accord on surface water hydrology, groundwater hydrology, water supply, hydropower, flood control, water quality, fisheries, wildlife, vegetation, special-status species, recreation, visual, cultural resources, Indian Trust Assets, air quality, land use, socioeconomic, growth inducement, and environmental justice resources and conditions. Alternatives evaluated in the Draft EIR/EIS include the No Action Alternative, No Project Alternative, Proposed Project/Action Alternative (Yuba Accord Alternative), and Modified Flow Alternative. In addition, the Draft EIR/EIS addresses other past, present, and reasonably foreseeable actions in conjunction with the implementation of the Yuba Accord, thus analyzing cumulative impacts.

Copies of the Draft EIR/EIS are available for public review at the following locations:

• Bureau of Reclamation, 2800 Cottage Way, Sacramento, CA 95825.

• Yuba County Water Agency, 1220 F Street, Marysville, CA 95901.

• Department of Water Resources, Division of Environmental Services, 1416 Ninth Street, Sacramento, CA 95814.

• Sacramento Public Library, 828 I Street, Sacramento, CA 95814.

• Yuba County Library, 303 2nd Street, Marysville, CA 95901.

If special assistance is required at the public hearings, please contact Dianne Simodynes (e-mail: Dianne.Simodynes@hdrinc.com). Please notify Ms. Simodynes as far in advance of the hearings as possible to enable Reclamation to secure the needed services. If a request cannot be honored, the requestor will be notified.

Before including your name, address, phone number, e-mail address, or other personal identifying information in your comment, you should be aware that your entire comment—including your personal identifying information—may be made publicly available at any time. While you can ask us in your comment to withhold your personal identifying information from public review, we cannot guarantee that we will be able to do so.

Dated: June 18, 2007.
John F. Davis,
Deputy Regional Director, Mid-Pacific Region.

[FR Doc. E7-12728 Filed 6-29-07; 8:45 am]

BILLING CODE 4310-MN-P